DEPARTMENT OF TRANSPORTATION

Coast Guard

33 CFR Part 165

[CGD01-01-131]

RIN 2115-AA97

Safety Zone; Oak Bluffs Fireman's Civic Association, Oak Bluffs, MA

AGENCY: Coast Guard, DOT.

ACTION: Temporary final rule.

SUMMARY: The Coast Guard is establishing a safety zone within a 250-yard radius of the fireworks barge, located at Oak Bluffs, Massachusetts, on August 17, 2001, with a rain date of August 18, 2001. The safety zone is needed to safeguard the public from possible hazards associated with a fireworks display. Entry into this zone will be prohibited unless authorized by the Captain of the Port, Providence, Rhode Island.

EFFECTIVE DATE: This rule is effective from 8 p.m. on August 17, 2001, through 10 p.m. on August 18, 2001.

ADDRESSES: Documents relating to this temporary final rule are available for inspection and copying at U.S. Coast Guard Marine Safety Office Providence, 20 Risho Avenue, E. Providence, RI. Normal office hours are between 8 a.m. and 4 p.m., Monday through Friday, except Federal holidays.

FOR FURTHER INFORMATION CONTACT: LT David Barata at Marine Safety Office Providence, (401) 435-2335.

SUPPLEMENTARY INFORMATION:

Regulatory Information

Pursuant to 5 U.S.C. 553, a notice proposed rulemaking (NPRM) was not published for this regulation. Good cause exists for not publishing a NPRM and for making this regulation effective in less than 30 days after Federal Register publication. Details regarding this event were not provided to the Coast Guard in sufficient time to draft or publish a NPRM or a final rule 30 days in advance of its effective date. Publishing a NPRM and delaying its effective date would be contrary to the public interest since immediate action is needed to close a portion of the waterway and protect the maritime public from the hazards associated with this fireworks display.

Background and Purpose

This regulation establishes a safety zone in all waters within a 250-yard radius of the fireworks barge at Oak Bluffs, Massachusetts, in approximate position 41°27′12″N, 070°33′15″W, on August 17, 2001, and August 18, 2001, from 8 p.m. until 10 p.m. The Oak Bluff's Fireman's Civic Association has scheduled fireworks for August 17, 2001, and the regulation will be enforced from 8 p.m. to 10 p.m. on August 17, 2001. Alternately, if the event is rescheduled due to weather, the safety zone will be enforced from 8 p.m. until 10 p.m. on August 18, 2001. This safety zone is needed to protect the maritime community from possible hazards associated with a fireworks display that will be shot from the barge off Oak Bluffs Beach, Oak Bluffs, Massachusetts. No vessel may enter the safety zone without permission of the Captain of the Port (COTP), Providence, Rhode Island.

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979). We expect the economic impact of this rule to be so minimal that a full Regulatory Evaluation under paragraph 10(e) of the regulatory policies and procedures of DOT is unnecessary. This safety zone involves a very small area of Nantucket Sound, Oak Bluffs, Massachusetts. The effect of this regulation will not be significant as the safety zone is effective for only 2 hours; it takes place late in the evening; it involves a very small area of Nantucket Island Sound, Oak Bluffs, Massachusetts, thus allowing vessel traffic to safely transit around this safety zone; and extensive maritime advisories will be made in advance of the event.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: the owners and operators of vessels intending to transit Oak Bluffs, Massachusetts in the fireworks area. The safety zone will not have a significant impact on a substantial number of small entities for the following reasons: the safety zone is effective for only 2 hours; it takes place late in the evening; the safety zone involves a very small area of Nantucket Sound, Oak Bluffs, Massachusetts, thus allowing vessel traffic to safely transit around this safety zone; and extensive maritime advisories will be made in advance of the event.

Assistance for Small Entities

Under section 213(a) of the Small Business Regulatory Enforcement Fairness Act of 1996 (Pub. L. 104-121), we want to assist small entities in understanding this rule so that they can better evaluate its effects on them and participate in the rulemaking process. If your small business or organization would be affected by this rule and you have any questions concerning its provisions or options for compliance, please call LT David Barata at (401) 435-2335. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no collection of information under the Paperwork Reduction Act of 1995 (44 U.S.C. 3501-3520.).

Federalism

We have analyzed this action under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government having first provided the funds to pay those costs. This rule will not impose an unfunded mandate.

Taking of Private Property

This temporary rule will not effect a taking of private property or otherwise have taking implications under Executive Order 12630, Governmental Actions and Interference with Constitutionally Protected Property Rights.

Civil Justice Reform

This temporary rule meets applicable standards in sections 3(a) and 3(b)(2) of Executive Order 12988, Civil Justice Reform, to minimize litigation, eliminate ambiguity, and reduce burden.

Protection of Children

We have analyzed this temporary rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Environment

The Coast Guard has considered the environmental impact of implementing this temporary rule and concluded that, under figure 2-1, paragraph 34(g), of Commandant Instruction M16475.1D, this rule is categorically excluded from further environmental documentation. A “Categorical Exclusion Determination” is available in the docket.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

List of Subjects in 33 CFR Part 165

Harbors, Marine safety, Navigation (water), Reporting and recordkeeping requirements, Security measures, and Waterways.

For the reasons discussed in the preamble, the Coast Guard amends 33 CFR part 165 as follows:

PART 165—[AMENDED]

1. The authority citation for part 165 continues to read as follows:

Authority: 33 U.S.C. 1231; 50 U.S.C. 191; 33 CFR 1.05(g), 6.04-1, 6.04-6, 160.5; 49 CFR 1.46.

2. From 8 p.m. on August 17, 2001, to 10 p.m. on August 18, 2001, add temporary § 165.T01-131 to read as follows:

§ 165.T01-131 Safety zone: fireworks display, Oak Bluffs, MA.

(a) Location. All waters within a 250-yard radius of the fireworks barge located off Oak Bluffs Beach, Oak Bluffs, Massachusetts, in approximate position 41°27′12″N, 070°33′15″W.

(b) Enforcement dates and times. This section will be enforced from 8 p.m. until 10 p.m. on both August 17, 2001, and August 18, 2001.

(c) Regulations.

(1) The general regulations governing safety zones contained in 33 CFR 165.23 apply.

(2) All persons and vessels shall comply with the instructions of the Coast Guard Captain of the Port or the designated on-scene patrol personnel. These personnel comprise commissioned, warrant, and petty officers of the Coast Guard. Upon being hailed by a U.S. Coast Guard vessel by siren, radio, flashing light, or other means, the operator of a vessel shall proceed as directed.

Dated: August 3, 2001.
Mark G. VanHaverbeke,
Captain, U.S. Coast Guard, Captain of the Port, Marine Safety Office Providence.

[FR Doc. 01-20315 Filed 8-13-01; 8:45 am]

BILLING CODE 4910-15-P